DEPARTMENT OF ENERGY

Office of Science Financial Assistance Program Notice 02-17: Fusion 2002 Summer Study, Snowmass Village, CO, Supplemental Travel Funding

AGENCY: U.S. Department of Energy (DOE).

ACTION: Correction.

In notice document 02-2712 on page 5277, in the issue of Tuesday, February 5, 2002, please make the following corrections:

On page 5277, in the first column, under the heading “Summary”, in the last line (line 15) the dollar amount should read $200,000.

The Web sites for the Fusion 2002 Summer Study and the Snowmass working groups have both changed. On page 5277, under the heading “Supplementary Information”, in the second column, at the end of the second full paragraph (line 18) the Web site address should read http://web.gat.com/snowmass/. Also under the same heading, second column, third full paragraph, on line 13 the Web site should read http://web.gat.com/snowmass/working/.

Issued in Washington, DC on February 11, 2002.
John Rodney Clark,
Associate Director of Science for Resource Management.

[FR Doc. 02-4048 Filed 2-19-02; 8:45 am]

BILLING CODE 6450-02-P